ENVIRONMENTAL PROTECTION AGENCY

40 CFR Part 300

[EPA-R04-SFUND-2011-0749; FRl-9620-1]

National Oil and Hazardous Substances Pollution Contingency Plan; National Priorities List: Deletion of the Martin-Marietta/Sodyeco Superfund Site

AGENCY: U.S. Environmental Protection Agency.

ACTION: Final rule.

SUMMARY: The Environmental Protection Agency (EPA) Region 4 announces the deletion of the Martin-Marietta/Sodyeco Superfund Site (Site) located at 11701 Mount Holly Road in Charlotte, North Carolina, from the National Priorities List (NPL). The NPL, promulgated pursuant to section 105 of the Comprehensive Environmental Response, Compensation, and Liability Act (CERCLA) of 1980, as amended, is an appendix of the National Oil and Hazardous Substances Pollution Contingency Plan (NCP). The EPA and the State of North Carolina, through the Department of Environment and Natural Resources (DENR), have determined that all appropriate response actions under CERCLA, other than operation, maintenance, and five-year reviews, have been completed. However, this deletion does not preclude future actions under Superfund.

DATES: Effective Date: This action is effective January 20, 2012.

ADDRESSES: EPA has established a docket for this action under Docket Identification No. EPA-R04-SFUND-2011-0749. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

Regional Site Information Repository: U.S. EPA Record Center, Attn: Ms. Debbie Jourdan, Atlanta Federal Center, 61 Forsyth Street SW., Atlanta, Georgia 30303-8960. Hours of Operation (by appointment only): 8 a.m. to 4 p.m., Monday through Friday.

Local Site Information Repository: Mount Holly Public Library, 235 West Catawba Avenue, Mount Holly, North Carolina 28120-1603. Hours of operation: 10 a.m.-6 p.m., Monday, Tuesday, Thursday and Friday. 10 a.m.-2 p.m., Wednesday and Saturday.

FOR FURTHER INFORMATION CONTACT: Michael Townsend, Remedial Project Manager, Superfund Remedial Section, Superfund Remedial Branch, Superfund Division, U.S. Environmental Protection Agency, Region 4, 61 Forsyth Street SW., Atlanta, Georgia 30303-8960, (404) 562-8813, Electronic mail at: townsend.michael@epa.gov.

SUPPLEMENTARY INFORMATION: The site to be deleted from the NPL is: Martin-Marietta/Sodyeco Superfund Site (Site) located at 11701 Mount Holly Road in Charlotte, North Carolina. A Notice of Intent to Delete for this Site was published in the Federal Register on November 18, 2011.

The closing date for comments on the Notice of Intent to Delete was December 17, 2011. No public comments were received during the comment period. Therefore a responsiveness summary was not prepared and placed in the docket, EPA-R04-SFUND-2011-0749, on www.regulations.gov, or in the local repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: December 22, 2011.
Gwendolyn Keyes Fleming,
Regional Administrator, Region 4.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to Part 300 is amended by removing “Martin-Marietta, Sodyeco, Inc.,” “Charlotte” under NC.

[FR Doc. 2012-1100 Filed 1-19-12; 8:45 am]

BILLING CODE 6560-50-P